DEPARTMENT OF ENERGY

Federal Energy Regulatory Commission

[Docket No. EC04-104-000, et al.]

Virginia Electric and Power Company, et al.; Electric Rate and Corporate Filings

May 10, 2004.

The following filings have been made with the Commission. The filings are listed in ascending order within each docket classification.

1. Virginia Electric and Power Company; UAE Mecklenburg Cogeneration LP; Mecklenburg Cogenco, Inc.; Cogeneration Capital Corp.; American Energy Holdings Corp.; United American Energy Corp.

[Docket No. EC04-104-000]

Take notice that, on May 6, 2004, Virginia Electric and Power Company (Dominion Virginia Power) and UAE Mecklenburg Cogeneration LP (UAE Mecklenburg), Mecklenburg Cogenco, Inc. (Cogenco), Cogeneration Capital Corp. (Capital), United American Energy Holdings Corp. and United American Energy Corp. (UAE Corp.) (collectively, Applicants), submitted for filing, pursuant to section 203 of the Federal Power Act and Part 33 of the Commission's regulations, an application requesting Commission authorization for: (1) The proposed transfer of 100% of the ownership interests of Cogenco and Capital from UAE Corp. to Dominion Virginia Power; (2) Dominion Virginia Power's ownership of an approximately 138 MW generating facility and its appurtenant transmission facilities located near Clarksville, Virginia (collectively, the Facility) resulting from the proposed transfer; and (3) the proposed transfer of the Facility's market-based rate tariff (collectively, the Acquisition). UAE Corp. also requests that the Commission authorize, to the extent necessary, certain proposed internal restructurings of UAE Corp., that will occur prior to the closing of the Acquisition.¹ The Applicants request that the Commission act on the Application within approximately sixty days or by July 5, 2004.

¹ Prior to Closing, UAE Corp. may either convert Cogenco and Capital to Delaware limited liability companies or transfer the partnership interests in UAE Mecklenburg to limited liability companies that are wholly-owned indirect subsidiaries of UAE Corp., and Dominion Virginia Power will purchase the resulting LLC membership interests (in either case, the UAE Internal Reorganization). In any event, Dominion Virginia Power will acquire entities that are indirectly wholly-owned by UAE Corp. and whose sole assets are the general and limited partnership interests in UAE Mecklenburg. To the extent required, UAE Corp. requests Commission authority for the UAE Internal Reorganization in this filing. UAE Corp. assumes the Commission's Section 203 jurisdiction over the UAE Internal Reorganization and it requests that the Commission authorize, to the extent necessary, the UAE Internal Reorganization.

Applicants state that copies of the filing were served upon the parties to the transaction, Dominion Virginia Power's wholesale requirements customers, the Virginia State Corporation Commission and the North Carolina Utilities Commission.

Comment Date: May 27, 2004.

2. The Detroit Edison Company

[Docket No. EL04-31-002]

Take notice that on April 30, 2004, The Detroit Edison Company (Detroit Edison) tendered for filing in compliance with the Commission's March 5, 2004 Order in Docket No. EL04-31-000 the net effect on imbalance payments as a result of the recalculation of the decremental prices for the period of January 1, 2003 through December 1, 2003.

Comment Date: May 21, 2004.

3. Mississippi Delta Energy Agency and the Clarksdale Public Utilities Commission of the City of Clarksdale, MS, Complainants v. Entergy Services, Inc., and Entergy Operating Companies, Respondents

[Docket No. EL04-99-000]

Take notice that on May 5, 2004, the Mississippi Delta Energy Agency and the Clarksdale Public Utilities Commission of the City of Clarksdale, Mississippi filed a formal complaint against Entergy Services, Inc., and Entergy Operating Companies (collectively, Entergy) pursuant to section 206 of the Federal Power Act and Rule 206 of the Commission's Rules of Practice and Procedure, alleging that Entergy has unjustly and unreasonably classified certain transmission facilities as direct assignment facilities rather than network upgrades, in violation of Commission policy concerning pricing for network transmission facilities.

Comment Date: May 25, 2004.

4. Conectiv Atlantic Generation, LLC

[Docket No. ER00-1770-007]

Take notice that on May 3, 2004, Conectiv Atlantic Generation, LLC (CAG) tendered for filing a notice of change in status under CAG's market-based rate authority to reflect CAG's acquisition of the Deepwater generating station from its affiliate, Atlantic City Electric Company. CAG submits that its ownership of Deepwater does not raise market power concerns and should not affect CAG's existing market-based rate authority.

CAG states that copies of the filing were served upon the Public Service Commission of the District of Columbia, Maryland Public Service Commission, Virginia State Corporation Commission, State of New Jersey Board of Public Utilities and Delaware Public Service Commission.

Comment Date: May 24, 2004.

5. California Independent System Operator Corporation

[Docket No. ER02-651-004]

Take notice that on May 3, 2004, the California Independent System Operator Corporation (ISO) submitted a filing to comply with the Commission's Order issued on April 1, 2004, in Docket No. ER02-651-002, 107 FERC ¶ 61,001. The ISO states that the compliance filing has been served on all parties to these proceedings.

Comment Date: May 24, 2004.

6. Ohio Valley Electric Corporation

[Docket No. ER03-1414-001]

Take notice that on May 3, 2004, Ohio Valley Electric Corporation submitted a compliance filing pursuant to Commission's Order issued April 1, 2004 in Docket No. ER03-1414-000.

Ohio Valley Electric Corporation states that a copy of this filing was served upon PSEG Lawrenceburg Energy Company LLC.

Comment Date: May 24, 2004.

7. PJM Interconnection, L.L.C.

[Docket No. ER04-676-001]

Take notice that on May 3, 2004, PJM Interconnection, L.L.C. (PJM) submitted for filing a substitute executed construction service agreement (CSA) among PJM, Industrial Power Generating Corporation, and Monongahela Power Company, The Potomac Edison Company, and West Penn Power Company, all doing business as Allegheny Power. PJM requests waiver of the Commission's notice requirements to allow a March 12, 2004 effective date for the substitute CSA.

PJM states that copies of this filing were served upon persons designated on the official service list compiled by the Secretary in this proceeding, the parties to the agreements, and the state regulatory commissions within the PJM region.

Comment Date: May 24, 2004.

8. Virginia Electric and Power Company

[Docket No. ER04-712-001]

Take notice that on May 3, 2004, Virginia Electric and Power Company, doing business as Dominion Virginia Power, tendered for filing a revised tariff sheet (Revised Sheet) in Virginia Electric and Power Company's FERC Electric Tariff, Second Revised Volume No. 5 (OATT) modifying the pricing of Backup Supply Service for Unbundled Retail Transmission Customers under Schedule 10 to its OATT. Dominion Virginia Power continues its request for waiver of the Commission's notice of filing requirements to allow the Revised Sheet to become effective as of the date of the Virginia State Corporation Commission's (SCC) final order in Case No. PUE-2003-00118.

Dominion Virginia Power states that copies of the filing were served upon the Commission's official service list in this proceeding.

Comment Date: May 24, 2004.

9. Southwest Power Pool, Inc.

[Docket Nos. RT04-1-002 and ER04-48-002]

Take notice that on May 3, 2004, Southwest Power Pool, Inc. (SPP), in compliance with Commission Order in Southwest Power Pool, Inc., 106 FERC ¶ 61,110 (2004), submitted tariff revisions and additional documentary support in connection with SPP's efforts to become a fully compliant regional transmission organization (RTO) under Commission Order Nos. 2000 and 2000-A.

SPP states that copies of this compliance filing were served upon all persons on the service list in this docket, as well as all SPP Members and each state regulatory commission in the SPP service area.

Comment Date: May 24, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-1177 Filed 5-14-04; 8:45 am]

BILLING CODE 6717-01-P